DEPARTMENT OF HOMELAND SECURITY

Coast Guard

33 CFR Part 100

[Docket No. USCG-2018-0323]

Special Local Regulations for Marine Events; Blessing of the Fleet, Tiburon, CA

AGENCY: Coast Guard, DHS.

ACTION: Notice of enforcement of regulation.

SUMMARY: The Coast Guard will enforce the special local regulations in the navigable waters of the San Francisco Bay for the annual Blessing of the Fleet to be held on April 22, 2018. This action is necessary to ensure the safety of event participants and spectators. During the enforcement period, unauthorized persons or vessels are prohibited from entering into, transiting through, or anchoring in the regulated area, unless authorized by the Patrol Commander (PATCOM).

DATES: The regulations in 33 CFR 100.1103, Table 1, Item number 3 will be enforced from 9 a.m. to 1 p.m. on April 22, 2018.

FOR FURTHER INFORMATION CONTACT: If you have questions on this notice of enforcement, call or email Lieutenant Junior Grade Emily Rowan, U.S. Coast Guard Sector San Francisco; telephone (415) 399-7443 or email at D11-PF-MarineEvents@uscg.mil.

SUPPLEMENTARY INFORMATION: The Coast Guard will enforce the special local regulation established in 33 CFR 100.1103, Table 1, Item number 3 on April 22, 2018. From 9 a.m. to 1 p.m. on April 22, 2018 the special local regulation applies to the navigable waters from Bluff Point on the southeastern side of Tiburon Peninsula to Point Campbell on the northern edge of Angel Island, and from Peninsula Point on the southern edge of Tiburon Peninsula to Point Stuart on the western edge of Angel Island.

Under the provisions of 33 CFR 100.1103, unauthorized persons or vessels are prohibited from entering into, transiting through, or anchoring in the regulated area during all applicable effective dates and times, unless authorized to do so by the PATCOM. Additionally, each person who receives notice of a lawful order or direction issued by an official patrol vessel shall obey the order or direction. The PATCOM is empowered to forbid entry into and control the regulated area. The PATCOM shall be designated by the Commander, Coast Guard Sector San Francisco. The PATCOM may, upon request, allow the transit of commercial vessels through regulated areas when it is safe to do so.

This notice is issued under authority of 33 CFR 165.1103 and 5 U.S.C. 552(a). In addition to this notification in the Federal Register, the Coast Guard plans to provide the maritime community with extensive advance notification of the regulated area and its enforcement period via the Local Notice to Mariners.

If the Captain of the Port determines that the regulated area need not be enforced for the full duration stated in this notification, a Broadcast Notice to Mariners may be used to grant general permission to enter the regulated area.

Dated: April 12, 2018.
Anthony J. Ceraolo,
Captain, U.S. Coast Guard, Captain of the Port of San Francisco.

[FR Doc. 2018-08109 Filed 4-17-18; 8:45 am]

BILLING CODE 9110-04-P